DEPARTMENT OF LABOR

Employment and Training Administration

[TA-W-51,308]

State of Alaska Commercial Fisheries Entry Commission Permit Number SO4T60318C-01, Manokotak, AK; Notice of Revised Determination on Reconsideration

By letter of April 25, 2003, the company official requested administrative reconsideration of the Department's Negative Determination Regarding Eligibility for Workers under State of Alaska Commercial Fisheries Entry Commission Permit Number SO4T60318C, Manokotak, Alaska, to Apply for Worker Adjustment Assistance. The notice was published in the Federal Register on April 11, 2003 (68 FR 17830).

The initial petition was denied because there had been no employment decline. The company official however has provided information showing that all workers producing salmon were permanently separated from employment with the subject firm.

The subject firm supplied salmon to a processor whose workers were certified eligible to apply for trade adjustment assistance. The loss of business with the salmon processor contributed importantly to worker separations under State of Alaska Commercial Fisheries Entry Commission Permit Number SO4T60318C-01, Manokotak, Alaska.

New information provided by the official of the firm shows that the permit was transferred to another salmon producer. According to the Alaska Commercial Fisheries Entry Commission, the permit number for the subject firm has a suffix of 01 (SO4T60318C-01). Since the workers under the State of Alaska Commercial Fisheries Entry Commission Permit Number SO4T60318C-01, Manokotak, Alaska, are permanently separated from employment and the permit was transferred to another salmon producer, the Department has determined that this certification shall not extend to the successor firm which is assigned permit number SO4T60318C-02.

Conclusion

After careful review of the facts obtained in the reconsideration, I determine that workers covered by State of Alaska Commercial Fisheries Entry Commission, Permit Number SO4T60318C-01, Manokotak, Alaska, qualify as adversely affected secondary workers under section 222 of the Trade Act of 1974.

In accordance with the provisions of the Act, I make the following revised determination:

“All workers of State of Alaska Commercial Fisheries Entry Commission, Permit Number SO4T60318C-01, Manokotak, Alaska, who became totally or partially separated from employment on or after March 21, 2002, through two years from the date of certification, are eligible to apply for adjustment assistance under Section 223 of the Trade Act of 1974.”

Signed in Washington, DC, this 1st day of December, 2003.
Linda G. Poole,
Certifying Officer, Division of Trade Adjustment Assistance.

[FR Doc. 03-32283 Filed 12-31-03; 8:45 am]

BILLING CODE 4510-30-P